DEPARTMENT OF TRANSPORTATION

Federal Aviation Administration

14 CFR Part 39

[Docket No. FAA-2025-2275; Project Identifier AD-2025-00796-T]

RIN 2120-AA64

Airworthiness Directives; The Boeing Company Airplanes

AGENCY: Federal Aviation Administration (FAA), DOT.

ACTION: Notice of proposed rulemaking (NPRM).

SUMMARY: The FAA proposes to adopt a new airworthiness directive (AD) for certain The Boeing Company Model 757-200 and -300 series airplanes. This proposed AD was prompted by a determination that new or more restrictive airworthiness limitations are necessary. This proposed AD would require revising the existing maintenance or inspection program, as applicable, to incorporate new or more restrictive airworthiness limitations. The FAA is proposing this AD to address the unsafe condition on these products.

DATES: The FAA must receive comments on this proposed AD by October 23, 2025.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-2275; or in person at Docket Operations between 9 a.m. and 5 p.m., Monday through Friday, except Federal holidays. The AD docket contains this NPRM, any comments received, and other information. The street address for Docket Operations is listed above.

Material Incorporated by Reference:

• For Aviation Partners Boeing material identified in this proposed AD, contact Aviation Partners Boeing, 555 Andover Park West, Suite 200, Tukwila, WA 98188; telephone 206-830-7699; fax 206-767-0535; email leng@aviationpartners.com; website aviationpartnersboeing.com.

• You may view this material at the FAA, Airworthiness Products Section, Operational Safety Branch, 2200 South 216th St., Des Moines, WA.

FOR FURTHER INFORMATION CONTACT: Sarah Illg, Aviation Safety Engineer, FAA, 3960 Paramount Boulevard, Lakewood, CA 90712; phone: 206-231-3517; email: Sarah.A.Illg@faa.gov.

SUPPLEMENTARY INFORMATION:

Comments Invited

The FAA invites you to send any written relevant data, views, or arguments about this proposal. Send your comments using a method listed under the ADDRESSES section. Include “Docket No. FAA-2025-2275; Project Identifier AD-2025-00796-T” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Sarah Illg, Aviation Safety Engineer, FAA, 3960 Paramount Boulevard, Lakewood, CA 90712; phone: 206-231-3517; email: Sarah.A.Illg@faa.gov. Any commentary that the FAA receives that is not specifically designated as CBI will be placed in the public docket for this rulemaking.

Background

The FAA issued AD 2020-01-18, Amendment 39-19824 (85 FR 5304, January 30, 2020); corrected February 26, 2020 (85 FR 10969) (AD 2020-01-18), for all the Boeing Company Model 757 airplanes. AD 2020-01-18 requires revising the existing maintenance or inspection program, as applicable, to incorporate new or more restrictive airworthiness limitations. AD 2020-01-18 includes a requirement to revise the existing maintenance or inspection program to incorporate a supplemental program to address the effect of Supplemental Type Certificate (STC) ST01518SE. The FAA issued AD 2020-01-18 to address fatigue cracking of the principal structural elements, which could adversely affect the structural integrity of the airplane.

Since the FAA issued AD 2020-01-18, the FAA has received an operator report indicating that during a maintenance H-check inspection, a crack was found at the splice fitting between the original wing and the Aviation Partners Boeing (APB) modified lower wing skin panel, which is spliced at wing station (WS) 711 on a Boeing Company Model 757-200 airplane with the APB blended winglets installed in accordance with STC ST01518SE. APB reviewed the crack finding and determined the existing airworthiness limitations (AWL) structural significant items (SSI) 57-20-32B does not provide adequate probability of detection for foreseeable fatigue cracking of SSIs at station WS 711. If cracks grow undetected, it may result in the inability of a principal structural element to sustain limit loads. The FAA has determined that it is necessary to revise the existing maintenance or inspection program, as applicable, to incorporate new or more restrictive airworthiness limitations for The Boeing Company Model 757-200 and -300 airplanes that have been modified in accordance with STC ST01518SE, with or without blended or scimitar blended winglets installed. Incorporating the revision required by this proposed AD would terminate the requirements of paragraphs (g) and (h)(2) of AD 2020-01-18.

The FAA is proposing this AD to address the potential for fatigue cracking on the wing and winglet. This condition, if not addressed, could result in the inability of a principal structural element to sustain limit loads, which could adversely affect the structural integrity of the airplane.

FAA's Determination

The FAA is issuing this NPRM after determining that the unsafe condition described previously is likely to exist or develop on other products of the same type design.

Material Incorporated by Reference Under 1 CFR Part 51

The FAA reviewed Aviation Partners Boeing AP57.2-0604.2 Supplement to D622N001-9 (September 2020) 757 Maintenance Planning Data (MPD) document, Section 9, Airworthiness Limitations (AWLs) and Certification Requirements (CMRs) Boeing 757-200 with Winglets FAA STC NUMBER ST01518SE AND EASA STC NUMBER 10015659, Revision February 2022; and AP57.3-0604.2 Supplement to D622N001-9 (September 2020) 757 MPD document, Section 9, AWLs and CMRs 757-300 with Blended Winglets FAA STC NUMBER ST01518SE AND EASA STC NUMBER 10015659, Revision August 2022. This material specifies airworthiness limitations for structural inspections, structural safe life parts, systems, and certification maintenance requirements.

The FAA also reviewed Aviation Partners Boeing AP57.2-0604.2-DTR Supplement to D622N001-DTR (October 2018) 757 Damage Tolerance Rating (DTR) Check Form Document for Boeing 757-200 with Winglets FAA STC NUMBER ST01518SE AND EASA STC NUMBER 10015659, Revision August 2023; and Aviation Partners Boeing AP57.3-0604.2-DTR Supplement to D622N001-DTR (October 2018) 757 DTR Check Form Document for Boeing 757-300 with Blended Winglets FAA STC NUMBER ST01518SE AND EASA STC NUMBER 10015659, Revision August 2023. This material provides the DTR check forms and the procedure for their use.

This material is reasonably available because the interested parties have access to it through their normal course of business or by the means identified in the ADDRESSES section.

Proposed AD Requirements in This NPRM

This proposed AD would require revising the existing maintenance or inspection program, as applicable, to incorporate new or more restrictive airworthiness limitations. This proposed AD would also require sending inspection results to Aviation Partners Boeing.

This proposed AD would require revisions to certain operator maintenance documents to include new actions (e.g., inspections). Compliance with these actions is required by 14 CFR 91.403(c). For airplanes that have been previously modified, altered, or repaired in the areas addressed by this proposed AD, the operator may not be able to accomplish the actions described in the revisions. In this situation, to comply with 14 CFR 91.403(c), the operator must request approval for an alternative method of compliance according to paragraph (j) of this proposed AD.

Differences Between This Proposed AD and the Service Information

This proposed AD would require that the reports specified in the service information identified in paragraph (g) of this proposed AD be submitted within 10 days after the airplane is returned to service, instead of 10 days after each individual finding as specified in the documents. The FAA has included this grace period in paragraph (g)(3) of this proposed AD.

Costs of Compliance

The FAA estimates that this AD, if adopted as proposed, would affect 156 airplanes of U.S. registry. The FAA estimates the following costs to comply with this proposed AD:

The FAA has determined that revising the existing maintenance or inspection program takes an average of 90 work-hours per operator, although the agency recognizes that this number may vary from operator to operator. Since operators incorporate maintenance or inspection program changes for their affected fleet(s), the FAA has determined that a per-operator estimate is more accurate than a per-airplane estimate. Therefore, the FAA estimates the average total cost per operator to be $7,650 (90 work-hours × $85 per work-hour).

On-Condition Costs
Action | Labor cost | Parts cost | Cost per product
Reporting | 1 work-hour × $85 per hour = $85 | $0 | $85

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to take approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

The Boeing Company: Docket No. FAA-2025-2275; Project Identifier AD-2025-00796-T.

(a) Comments Due Date

The FAA must receive comments on this airworthiness directive (AD) by October 23, 2025.

(b) Affected ADs

This AD affects AD 2020-01-18, Amendment 39-19824 (85 FR 5304, January 30, 2020); corrected February 26, 2020 (85 FR 10969) (AD 2020-01-18).

(c) Applicability

This AD applies to The Boeing Company Model 757-200 and -300 series airplanes, certificated in any category, that have been modified in accordance with supplemental type certificate (STC) ST01518SE, with or without blended or scimitar blended winglets installed.

(d) Subject

Air Transport Association (ATA) of America Code 05, Time Limits/Maintenance Checks; 57, Wings.

(e) Unsafe Condition

This AD was prompted by a determination that new or more restrictive airworthiness limitations are necessary. The FAA is issuing this AD to address fatigue cracking on the wing and winglet. This condition, if not addressed, could result in the inability of a principal structural element to sustain limit loads, which could adversely affect the structural integrity of the airplane.

(f) Compliance

Comply with this AD within the compliance times specified, unless already done.

(g) Maintenance or Inspection Program Revision

(1) For Model 757-200 series airplanes: Within 30 days after the effective date of this AD, revise the existing maintenance or inspection program, as applicable, to incorporate the service information specified in paragraphs (g)(1)(i) and (ii) of this AD. The initial compliance time for doing the tasks is at the time specified in the service information identified in paragraphs (g)(1)(i) and (ii) of this AD, or within 6 months or 500 flight cycles after the effective date of this AD, whichever occurs later.

(i) Aviation Partners Boeing AP57.2-0604.2 Supplement to D622N001-9 (September 2020) 757 Maintenance Planning Document (MPD) document, Section 9, Airworthiness Limitations (AWLs) and Certification Maintenance Requirements (CMRs) Boeing 757-200 with Winglets FAA STC NUMBER ST01518SE AND EASA STC NUMBER 10015659, Revision February 2022.

(ii) Aviation Partners Boeing AP57.2-0604.2-DTR Supplement to D622N001-DTR (October 2018) 757 Damage Tolerance Rating (DTR) Check Form Document for Boeing 757-200 with Blended Winglets FAA STC NUMBER ST01518SE AND EASA STC NUMBER 10015659, Revision August 2023.

(2) For Model 757-300 series airplanes: Within 30 days after the effective date of this AD, revise the existing maintenance or inspection program, as applicable, to incorporate the service information specified in paragraphs (g)(2)(i) and (ii) of this AD. The initial compliance time for doing the tasks is at the time specified in the service information identified in paragraphs (g)(2)(i) and (ii) of this AD, or within 6 months or 500 flight cycles after the effective date of this AD, whichever occurs later.

(i) Aviation Partners Boeing AP57.3-0604.2 Supplement to D622N001-9 (September 2020) 757 MPD document, Section 9, AWLs and CMRs 757-300 with Blended Winglets FAA STC ST01518SE and EASA STC Number 10015659, Revision August 2022.

(ii) Aviation Partners Boeing AP57.3-0604.2-DTRSupplement to D622N001-DTR (October 2018) 757 Damage Tolerance Rating (DTR) Check Form Document for Boeing 757-300 with Blended Winglets FAA STC NUMBER ST01518SE AND EASA STC NUMBER 10015659, Revision August 2023.

(3) The reports specified in the service information identified in paragraphs (g)(1)(i) and (ii) of this AD and (g)(2)(i) and (ii) of this AD must be submitted within 10 days after the airplane is returned to service, instead of 10 days after each individual finding as specified in the service information identified in paragraphs (g)(1)(i) and (ii) of this AD and (g)(2)(i) and (ii) of this AD.

(h) No Alternative Actions or Intervals

After the existing maintenance or inspection program has been revised as required by paragraph (g) of this AD, no alternative actions (e.g., inspections) or intervals, may be used unless the actions and intervals are approved as an alternative method of compliance (AMOC) in accordance with the procedures specified in paragraph (j) of this AD.

(i) Terminating Action for Paragraphs (g) and (h)(2) of AD 2020-01-18

Accomplishing the actions required by paragraph (g) this AD terminates the requirements specified in paragraphs (g) and (h)(2) of AD 2020-01-18 for The Boeing Company Model 757-200 and -300 series airplanes that have been modified in accordance with STC ST01518SE, with or without blended or scimitar blended winglets installed.

(j) Alternative Methods of Compliance (AMOCs)

(1) The Manager, AIR-770, West Certification Branch, FAA, has the authority to approve AMOCs for this AD, if requested using the procedures found in 14 CFR 39.19. In accordance with 14 CFR 39.19, send your request to your principal inspector or responsible Flight Standards Office, as appropriate. If sending information directly to the manager of the West Certification Branch, send it to the attention of the person identified in paragraph (k) of this AD. Information may be emailed to: AMOC@faa.gov. Before using any approved AMOC, notify your appropriate principal inspector, or lacking a principal inspector, the manager of the responsible Flight Standards Office.

(2) An AMOC that provides an acceptable level of safety may be used for any repair, modification, or alteration required by this AD if it is approved by The Boeing Company Organization Designation Authorization (ODA) that has been authorized by the Manager, AIR-770, West Certification Branch, FAA, to make those findings. To be approved, the repair method, modification deviation, or alteration deviation must meet the certification basis of the airplane, and the approval must specifically refer to this AD.

(3) AMOCs approved previously for AD 2020-01-18, Amendment 39-19824 (85 FR 5304, January 30, 2020); corrected February 26, 2020 (85 FR 10969); AD 2006-11-11 Amendment 39-14615 (71 FR 30278, May 26, 2006); and AD 2001-20-12, Amendment 39-12460 (66 FR 52492, October 16, 2001); are approved as AMOCs for the corresponding provisions of this AD, except for AMOCs that included revised compliance times.

(k) Related Information

For more information about this AD, contact Sarah Illg, Aviation Safety Engineer, FAA, 3960 Paramount Boulevard, Lakewood, CA 90712; phone: 206-231-3517; email: Sarah.A.Illg@faa.gov.

(l) Material Incorporated by Reference

(1) The Director of the Federal Register approved the incorporation by reference of the material listed in this paragraph under 5 U.S.C. 552(a) and 1 CFR part 51.

(2) You must use this material as applicable to do the actions required by this AD, unless the AD specifies otherwise.

(i) Aviation Partners Boeing AP57.2-0604.2 Supplement to D622N001-9 (September 2020) 757 Maintenance Planning Document (MPD) document, Section 9, Airworthiness Limitations (AWLs) and Certification Maintenance Requirements (CMRs) Boeing 757-200 with Winglets FAA STC NUMBER ST01518SE AND EASA STC NUMBER 10015659, Revision February 2022.

(ii) Aviation Partners Boeing AP57.2-0604.2-DTR Supplement to D622N001-DTR (October 2018) 757 Damage Tolerance Rating (DTR) Check Form Document for Boeing 757-200 with Winglets FAA STC NUMBER ST01518SE AND EASA STC NUMBER 10015659, Revision August 2023.

(iii) Aviation Partners Boeing AP57.3-0604.2 Supplement to D622N001-9 (September 2020) 757 Maintenance Planning Document (MPD) document, Section 9, Airworthiness Limitations (AWLs) and Certification Maintenance Requirements (CMRs) 757-300 with Blended Winglets FAA STC ST01518SE and EASA STC Number 10015659, Revision August 2022.

(iv) Aviation Partners Boeing AP57.3-0604.2-DTR Supplement to D622N001-DTR (October 2018) 757 Damage Tolerance Rating (DTR) Check Form Document for Boeing 757-300 with Blended Winglets FAA STC Number ST01518SE AND EASA STC NUMBER 10015659, Revision August 2023.

(3) For Aviation Partners Boeing material identified in this AD, contact Aviation Partners Boeing, 555 Andover Park West, Suite 200, Tukwila, WA 98188; telephone 206-830-7699; fax 206-767-0535; email leng@aviationpartners.com; website aviationpartnersboeing.com.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on September 3, 2025.
Paul R. Bernado,
Acting Director, Compliance & Airworthiness Division, Aircraft Certification Service.

[FR Doc. 2025-17179 Filed 9-5-25; 8:45 am]

BILLING CODE 4910-13-P